COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products and a service from the Procurement List previously furnished by such agencies.

DATES: Date added to and deleted from the Procurement List: October 29, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 6/30/2017 (82 FR 29852), 8/18/2017 (82 FR 39413-39414), and 8/25/2017 (82 FR 40569-40570), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s):

9930-00-NIB-0105—Kit, Post Mortem Bag, Basic, Straight Zipper, 36″ x 90″

9930-00-NIB-0106—Kit, Post Mortem Bag, Basic, Curved Zipper, 36″ x 90″

9930-00-NIB-0107—Kit, Post Mortem Bag, Heavy Duty, 36″ x 90″

9930-00-NIB-0108—Kit, Post Mortem Bag, Heavy Duty, XL, 72″ x 90″

9930-00-NIB-0109—Kit, Disaster Bag with ID Tags, 34″ x 96″

Mandatory Source(s) of Supply: BOSMA Enterprises, Indianapolis, IN

Mandatory for:

Contracting Activity: Defense Logistics Agency Troop Support

Distribution: B-List

NSN(s)—Product Name(s):

7045-01-515-5371—Disk, Media, Recordable, Branded Attributes, Rewriteable, DVD-RW, 4X, Jewel Case, 5 Pack Spindle

7045-01-515-5372—Disk, Media, Recordable, Branded Attributes, DVD-R, 16X, 25 Pack Spindle

7045-01-515-5373—Disk, Media, Recordable, Branded Attributes, Rewriteable, DVD+RW, 4X, 25 Pack Spindle

7045-01-515-5374—Disk, Media, Recordable, Branded Attributes, DVD+R, 16X, 25 Pack Spindle

7045-01-515-5375—Disk, Media, Recordable, Branded Attributes, CD-R, 52X, 100 Pack Spindle

Mandatory Source(s) of Supply: North Central Sight Services, Inc., Williamsport, PA

Mandatory for:

Contracting Activity: General Services Administration, New York, NY

Distribution: A-List

Service

Service Type: Sourcing, Warehousing, Assembly and Kitting Service

Mandatory for: Army National Guard Recruiting and Retention Command, Houston Barracks, Nashville, TN

Mandatory Source(s) of Supply: Industries for the Blind, Inc., West Allis, WI

Contracting Activity: DEPT OF THE ARMY, W7N1 USPFO ACTIVITY TN ARNG

Service Type: Custodial Service

Mandatory for: U.S. Geological Survey, Wetland and Aquatic Research Center, 700 Cajundome Boulevard, Lafayette, LA

Mandatory Source(s) of Supply: Louisiana Industries for the Disabled, Inc., Baton Rouge, LA

Contracting Activity: Dept of the Interior, U.S. Geological Survey

Deletions

On 8/18/2017 (82 FR 39413-39414), and 8/25/2017 (82 FR 40569-40570), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s):

8415-00-NSH-0489—Drawers and Undershirt (Collarless), Chem. Protect.

8415-00-NSH-0490—Drawers and Undershirt (Collarless), Chem. Protect.

Mandatory Source(s) of Supply: Peckham Vocational Industries, Inc., Lansing, MI

Contracting Activity: Defense Logistics Agency Troop Support

NSN(s)—Product Name(s):

8920-01-E60-7859—Pancake and Waffle Mix, Buttermilk; 50 lb bag

8920-01-E60-7861—Pancake Mix, Regular

8920-01-E60-7862—Pancake and Waffle Mix, Regular; 25 lb bag

8920-01-E60-7863—Pancake and Waffle Mix, Regular; 50 lb bag

Mandatory Source(s) of Supply: Transylvania Vocational Services, Inc., Brevard, NC

Contracting Activity: Defense Logistics Agency Troop Support

NSN(s)—Product Name(s):

6530-00-783-7205—Litter, Folding, Rigid Pole, Decontaminable

Mandatory Source(s) of Supply: Arizona Industries for the Blind, Phoenix, AZ

Contracting Activity: Defense Logistics Agency Troop Support

NSN(s)—Product Name(s):

6920-01-NSH-9020—Target, Silhouette

6920-01-NSH-9021—M-16 w/Frame

6920-01-NSH-9022—M-16 w/o Frame

Mandatory Source(s) of Supply: Employment Source, Inc., Fayetteville, NC

Contracting Activity: W6QM MICC FDO FT BRAGG

NSN(s)—Product Name(s):

7510-01-431-6527—Foam Stamp Pad, Size #2, 3¼″ x 6¼″, Blue

Mandatory Source(s) of Supply: Cattaraugus County Chapter, NYSARC, Olean, NY

Contracting Activity: General Services Administration, New York, NY

NSN(s)—Product Name(s):

8410-01-443-9499—Shirt, Tuck-in, Army, Women's, Long Sleeved, Green, 26XXLx35 12

8410-01-443-9425—Shirt, Tuck-in, Army, Women's, Long Sleeved, Green, 26XLx34

8410-01-443-9411—Shirt, Tuck-in, Army, Women's, Long Sleeved, Green, 24XXLx35½

8410-01-443-9394—Shirt, Tuck-in, Army, Women's, Long Sleeved, Green, 22XXLx35½

8410-01-443-9389—Shirt, Tuck-in, Army, Women's, Long Sleeved, Green, 22XLx34

8410-01-443-9384—Shirt, Tuck-in, Army, Women's, Long Sleeved, Green, 20XXLx35½

8410-01-443-9380—Shirt, Tuck-in, Army, Women's, Long Sleeved, Green, 20XLx34

8410-01-443-9122—Shirt, Tuck-in, Army, Women's, Long Sleeved, Green, 18XXLx35½

8410-01-443-9117—Shirt, Tuck-in, Army, Women's, Long Sleeved, Green, 16XLx34

8410-01-443-9110—Shirt, Tuck-in, Army, Women's, Long Sleeved, Green, 16XXLx35½

8410-01-443-9088—Shirt, Tuck-in, Army, Women's, Long Sleeved, Green, 16XLx34

8410-01-443-9084—Shirt, Tuck-in, Army, Women's, Long Sleeved, Green, 14XXLx35½

8410-01-443-9029—Shirt, Tuck-in, Army, Women's, Long Sleeved, Green, 14XLx34

8410-01-443-9027—Shirt, Tuck-in, Army, Women's, Long Sleeved, Green, 12XXLx35½

8410-01-443-9022—Shirt, Tuck-in, Army, Women's, Long Sleeved, Green, 12XLx34

8410-01-443-9016—Shirt, Tuck-in, Army, Women's, Long Sleeved, Green, 10XXLx35½

8410-01-443-8989—Shirt, Tuck-in, Army, Women's, Long Sleeved, Green, 10XLx34

8410-00-0-sht503—Shirt, Tuck-in, Army, Women's, Long Sleeved, Green, LS

8410-01-415-8427—Shirt, Dress, Army, Women's, Long Sleeved, Green, 20RX31

8410-01-415-8425—Shirt, Dress, Army, Women's, Long Sleeved, Green, 8RX31

8410-01-415-7027—Shirt, Dress, Army, Women's, Long Sleeved, Green, 16Rx31

8410-01-415-7023—Shirt, Dress, Army, Women's, Long Sleeved, Green, 41x32½

8410-01-415-2914—Shirt, Dress, Army, Women's, Long Sleeved, Green, 16Lx32½

8410-01-415-2913—Shirt, Dress, Army, Women's, Long Sleeved, Green, 24Rx31

8410-01-415-2912—Shirt, Dress, Army, Women's, Long Sleeved, Green, 16Px29½

8410-01-415-2910—Shirt, Dress, Army, Women's, Long Sleeved, Green, 20Px29½

8410-01-415-2908—Shirt, Dress, Army, Women's, Long Sleeved, Green, 26Rx31

8410-01-415-2907—Shirt, Dress, Army, Women's, Long Sleeved, Green, 22Rx31

8410-01-415-2905—Shirt, Dress, Army, Women's, Long Sleeved, Green, 20Lx32½

8410-01-415-1594—Shirt, Dress, Army, Women's, Long Sleeved, Green, 6Lx32½

8410-01-415-1592—Shirt, Dress, Army, Women's, Long Sleeved, Green, 14Rx31

8410-01-415-1589—Shirt, Dress, Army, Women's, Long Sleeved, Green, 6Rx31

8410-01-415-1586—Shirt, Dress, Army, Women's, Long Sleeved, Green, 8Lx32½

8410-01-415-1585—Shirt, Dress, Army, Women's, Long Sleeved, Green, 18Px29½

8410-01-415-1584—Shirt, Dress, Army, Women's, Long Sleeved, Green, 16Rx31

8410-01-415-1583—Shirt, Dress, Army, Women's, Long Sleeved, Green, 18Lx32½

8410-01-415-1582—Shirt, Dress, Army, Women's, Long Sleeved, Green, 18R31

8410-01-415-1581—Shirt, Dress, Army, Women's, Long Sleeved, Green, 12Lx32½

8410-01-415-1580—Shirt, Dress, Army, Women's, Long Sleeved, Green, 12Lx32½

8410-01-415-1579—Shirt, Dress, Army, Women's, Long Sleeved, Green, 14Lx32½

8410-01-415-1578—Shirt, Dress, Army, Women's, Long Sleeved, Green, 12Px29½

8410-01-415-1577—Shirt, Dress, Army, Women's, Long Sleeved, Green, 4Rx31

8410-01-415-1576—Shirt, Dress, Army, Women's, Long Sleeved, Green, 10Rx31

8410-01-415-1575—Shirt, Dress, Army, Women's, Long Sleeved, Green, 10Px29½

8410-01-415-1574—Shirt, Dress, Army, Women's, Long Sleeved, Green, 8Px29 ½

8410-01-415-1573—Shirt, Dress, Army, Women's, Long Sleeved, Green, 10Longx32½

8410-01-415-1572—Shirt, Dress, Army, Women's, Long Sleeved, Green, 6Px29½

8410-01-415-1571—Shirt, Dress, Army, Women's, Long Sleeved, Green, 4Px29½

Mandatory Source(s) of Supply: Middle Georgia Diversified Industries, Inc., Dublin, GA

Contracting Activity: Defense Logistics Agency Troop Support

Service

Service Type: Custodial Service

Mandatory for: Marine Corps Reserve Center, West Trenton, NJ

Mandatory Source(s) of Supply: Occupational Training Center of Burlington County, Burlington, NJ

Contracting Activity: Dept of the Navy, Navy Facilities Engineering Command

Amy B. Jensen,
Director, Business Operations.

[FR Doc. 2017-20993 Filed 9-29-17; 8:45 am]

BILLING CODE 6353-01-P